NATIONAL CREDIT UNION ADMINISTRATION

Sunshine Act; Notice of Agency Meeting

TIME AND DATE: 10 a.m., Thursday, November 19, 2009.

PLACE: Board Room, 7th Floor, Room 7047, 1775 Duke Street, Alexandria, VA 22314-3428.

STATUS: Open.

MATTERS TO BE CONSIDERED:

1. NCUA's 2010/2011 Operating Budget.

2. NCUA's Overhead Transfer Rate.

3. NCUA's Operating Fee Scale.

4. Proposed Rule—Parts 704 and 747 of NCUA's Rules and Regulations, Corporate Credit Unions.

5. Final Rule—Parts 701 and 741 of NCUA's Rules and Regulations, National Credit Union Share Insurance Fund Premium and One Percent Deposit.

6. Insurance Fund Report.

RECESS: 11:15 a.m.

TIME AND DATE: 11:30 a.m., Thursday, November 19, 2009.

PLACE: Board Room, 7th Floor, Room 7047, 1775 Duke Street, Alexandria, VA 22314-3428.

STATUS: Closed.

MATTERS TO BE CONSIDERED:

1. Creditor Claim Appeals (2). Closed pursuant to Exemption (6).

2. Consideration of Supervisory Activities. Closed pursuant to Exemptions (8), (9)(A)(ii) and 9(B).

3. Personnel. Closed pursuant to Exemptions (2) and (6).

FOR FURTHER INFORMATION CONTACT: Mary Rupp, Secretary of the Board, Telephone: 703-518-6304.

Mary Rupp,
Secretary of the Board.

[FR Doc. E9-27591 Filed 11-12-09; 4:15 pm]

BILLING CODE P